FEDERAL COMMUNICATIONS COMMISSION

47 CFR Part 73

[DA 09-1032; MB Docket No. 09-9; RM-11511]

Radio Broadcasting Services: Mineral and Nevada City, CA

AGENCY: Federal Communications Commission.

ACTION: Final rule.

SUMMARY: The staff grants in part a rulemaking petition filed by Shamrock Communications, Inc., by deleting vacant FM Channel 297A at Nevada City, California. However, the staff denies Shamrock's proposal to allot Channel 297A at Mineral, California, because the city-grade (70 dBu) contour of this proposed allotment does not encompass entirely the boundaries of Mineral as required under the Commission's Rules. See Supplementary Information, infra.

DATES: Effective June 22, 2009.

ADDRESSES: Secretary, Federal Communications Commission, 445 12th Street, SW., Washington, DC 20554.

FOR FURTHER INFORMATION CONTACT: Andrew J. Rhodes, Media Bureau, (202) 418-2180.

SUPPLEMENTARY INFORMATION: This is a synopsis of the Commission's Report and Order, MB Docket No. 09-9, adopted May 6, 2009, and released May 8, 2009. The full text of this Report and Order is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or http://www.BCPIWEB.com.

The Notice of Proposed Rule Making in this proceeding solicited comment on deleting the Nevada City allotment. See 74 FR 7847 (February 20, 2009). No parties filed comments expressing an interest in retaining or applying for this vacant allotment. In addition, Shamrock's rulemaking petition was filed as part of a hybrid application and rulemaking proposal involving Shamrock's concurrently filed minor change application (File No. BMPH-20071108ACY). In this application, Shamrock proposes the reallotment of Channel 297C from Alturus, California, to Fernley, Nevada, and the associated modification of its construction permit for a new FM station at Alturus. The modification of the Alturus construction permit is contingent upon the deletion of the Nevada City allotment. The Report and Order notes that Shamrock's application is being granted simultaneously with the release of the Report and Order.

The Report and Order does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will send a copy of the Report and Order in this proceeding in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority for part 73 continues to read as follows:

Authority: 47 U.S.C. 154, 303, 334, 336.

§ 73.202 [Amended]

2. Section 73.202(b), the Table of FM Allotments under California, is amended by removing Nevada City, Channel 297A.

Federal Communications Commission.
John A. Karousos,
Assistant Chief, Audio Division, Media Bureau, Federal Communications Commission.

[FR Doc. E9-12309 Filed 5-26-09; 8:45 am]

BILLING CODE 6712-01-P